FEDERAL MINE SAFETY AND HEALTH REVIEW COMMISSION

Sunshine Act Meeting; Notice

June 13, 2006.

Time and Date: 10 a.m., Tuesday, June 27, 2006.

Place: The Richard V. Backley Hearing Room, 9th Floor, 601 New Jersey Avenue, NW., Washington, DC.

Status: Open.

Matters To Be Considered: Resuming the meeting that began Thursday, June 8, the Commission will consider and act upon the following in open session: Secretary of Labor v. Jim Walter Resources, Inc., Docket No. SE 2003-160. (Issues include whether the judge correctly determined that the operator violated 30 CFR 75.360(b)(3), and that the violation was significant and substantial and attributable to the operator's unwarrantable failure; whether the judge correctly determined that the operator did not violate 30 CFR 75.1101-23(a); whether the judge correctly determined that the operator violated 30 CFR 75.1101-23(c), and that the violation was not significant and substantial; and whether the judge property followed section 110(i) of the Mine Act in setting the penalty amounts for the violations found.)

Any person attending this meeting who requires special accessibility features and/or auxiliary aids, such as sign language interpreters, must inform the Commission in advance of those needs, subject to 29 CFR 2706.150(a)(3) and 2706.160(d).

FOR FURTHER INFORMATION CONTACT: Jean Ellen, (202) 434-9950; (202) 708-9300 for TDD Relay; 1-800-877-8339 for toll free.

Jean H. Ellen,
Chief Docket Clerk.

[FR Doc. 06-5594 Filed 6-19-06; 11:45 am]

BILLING CODE 6735-01-M